DEPARTMENT OF COMMERCE

National Oceanic and Atmospheric Administration

RIN 0648-XX91

Gulf of Mexico Fishery Management Council; Public Meetings

AGENCY: National Marine Fisheries Service (NMFS), National Oceanic and Atmospheric Administration (NOAA), Commerce.

ACTION: Notice of public meetings.

SUMMARY: The Gulf of Mexico Fishery Management Council will convene public meetings.

DATES: The meetings will be held August 16-20, 2010.

ADDRESSES: The meetings will be held at the Crowne Plaza, 200 E. Gregory St., Pensacola, FL 32502.

Council address: Gulf of Mexico Fishery Management Council, 2203 North Lois Avenue, Suite 1100, Tampa, FL 33607.

FOR FURTHER INFORMATION CONTACT: Dr. Stephen Bortone, Executive Director, Gulf of Mexico Fishery Management Council; telephone: (813) 348-1630.

SUPPLEMENTARY INFORMATION:

Council

Thursday, August 19, 2010

1 p.m. - The Council meeting will begin.

1:05 p.m. - 1:10 p.m. - There will be the swearing in of the New Council Members.

1:10 p.m. - 1:20 p.m. - The council will review of the agenda and approve of the minutes.

1:20 p.m. - 1:45 p.m. - There will be a briefing on the Deepwater Horizon Oil Spill.

1:45 p.m. - 2 p.m. - The Council will receive a presentation titled “Fisheries 101”.

2 p.m. - 6:30 p.m. - The Council will receive public testimony on exempted fishing permits (EFPs), if any; and a Final Framework Action for Greater Amberjack. Afterwards there will be an open public comment period regarding any fishery issue of concern. People wishing to speak before the Council should complete a public comment card prior to the comment period.

Friday, August 20, 2010

8:45 a.m. - 4:45 p.m. - The Council will review and discuss reports from the committee meetings as follows: Reef Fish; AP Selection; SEDAR Selection; Administrative Policy; Shrimp Management; Data Collection; Sustainable Fisheries/Ecosystem; Habitat; Outreach & Education; Budget/Personnel; and Spiny Lobster/Stone Crab.

4:45 p.m. - 5:15 p.m. - Other Business items will follow.

5:15 p.m. - 5:30 p.m. - There will be an election for Council Chairman and Vice Chairman. The Council will conclude its meeting at approximately 5:30 p.m.

Committees

Monday, August 16, 2010

12 p.m. - 5:30 p.m. - The Sustainable Fisheries/Ecosystem Committee will discuss the options paper for the Generic Annual Catch Limit/Accountability Measures Amendment including reports on derivation of acceptable biological catch; the committee will also review the summary of the Ecosystem Scientific & Statistical Committee Meeting.

-Recess-

Tuesday, August 17, 2010

8:30 a.m. - 8:45 a.m. - CLOSED SESSION - Full Council - The AP Selection Committee and full Council will appoint a vice chair of the Ad Hoc Reef Fish Limited Access Privilege Program Advisory Panel.

8:45 a.m. - 9 a.m. - CLOSED SESSION - Full Council - The SEDAR Selection Committee and full Council will appoint participants to the SEDAR Greater Amberjack Review workshop and the SEDAR Spiny Lobster Assessment workshop.

9 a.m. - 11 a.m. - The Administrative Policy Committee will discuss modifications to the Administrative Handbook.

11 a.m. - 12 p.m. - The Shrimp Management Committee will discuss the take of Smalltooth Sawfish and Sturgeon.

1:30 p.m. - 5 p.m. - The Reef Fish Management Committee will take final action on a framework action for greater amberjack; discuss the Red Grouper regulatory amendment - codified text of regulations and Gag Interim Rule; receive a status report on Amendment 32 Gag/Red Grouper; discuss a Fish Tag System for recreational Grouper; discuss Black Grouper allocation between the Gulf and South Atlantic; discuss the pros and cons of regionalized management; review a discussion paper on potential Red Snapper changes; review the Red Snapper IFQ; review the IFQ finance program; and review an Options Paper for Red Snapper TAC in 2011 and 2012.

-Recess-

Wednesday, August 18, 2010

8:30 a.m. - 12 p.m. & 1:30 p.m. - 3:30 p.m. - The Reef Fish Management Committee will continue to meet.

3:30 p.m. - 4:30 p.m. - The Data Collection Committee will receive a report from the Data Collection Advisory Panel meeting and the Vessel Monitoring System Advisory Panel; discuss a Fish Tag System for recreational Grouper; and receive a presentation on MRFSS Landing Data Frequency.

4:30 p.m. - 5 p.m. - The Outreach and Education Committee will receive a summary from the Outreach and Education Advisory Panel Meeting.

-Recess-

Immediately Following Committee Recess - There will be an informal open public question and answer session on Gulf of Mexico Fishery Management Issues.

Thursday, August 19, 2010

8:30 a.m. - 9 a.m. - The Budget/Personnel Committee will receive a quarterly budget review.

9 a.m. - 11 a.m. - The Spiny Lobster Management Committee will review draft Amendment 10 for Spiny Lobster.

11 a.m. - 11:30 a.m. - The Habitat Protection Committee will receive a status report on Essential Fish Habitat update and a review of the Habitat policy and procedures section of the Handbook.

Although other non-emergency issues not on the agendas may come before the Council and Committees for discussion, in accordance with the Magnuson-Stevens Fishery Conservation and Management Act (Magnuson-Stevens Act), those issues may not be the subject of formal action during these meetings. Actions of the Council and Committees will be restricted to those issues specifically identified in the agendas and any issues arising after publication of this notice that require emergency action under Section 305(c) of the Magnuson-Stevens Act, provided the public has been notified of the Council's intent to take action to address the emergency. The established times for addressing items on the agenda may be adjusted as necessary to accommodate the timely completion of discussion relevant to the agenda items. In order to further allow for such adjustments and completion of all items on the agenda, the meeting may be extended from, or completed prior to the date/time established in this notice.

Special Accommodations

These meetings are physically accessible to people with disabilities. Requests for sign language interpretation or other auxiliary aids should be directed to Tina O'Hern at the Council (see ADDRESSES) at least 5 working days prior to the meeting.

Dated: July 23, 2010.
Tracey L. Thompson,
Acting Director, Office of Sustainable Fisheries, National Marine Fisheries Service.

[FR Doc. 2010-18586 Filed 7-28-10; 8:45 am]

BILLING CODE 3510-22-S